DEPARTMENT OF COMMERCE

Foreign-Trade Zones Board

[B-61-2016]

Foreign-Trade Zone (FTZ) 79—Tampa, Florida; Authorization of Production Activity; Givaudan Flavors Corporation(Flavor Products); Lakeland, Florida

On September 12, 2016, Givaudan Flavors Corporation submitted a notification of proposed production activity to the Foreign-Trade Zones (FTZ) Board for its facility within Subzone 79E, in Lakeland, Florida.

The notification was processed in accordance with the regulations of the FTZ Board (15 CFR part 400), including notice in the Federal Register inviting public comment (81 FR 64870, September 21, 2016). The FTZ Board has determined that no further review of the activity is warranted at this time. The production activity described in the notification is authorized, subject to the FTZ Act and the Board's regulations, including Section 400.14.

Dated: January 9, 2017.
Andrew McGilvray,
Executive Secretary.

[FR Doc. 2017-00739 Filed 1-12-17; 8:45 am]

BILLING CODE 3510-DS-P